INTERNATIONAL TRADE COMMISSION

[Inv. No. 337-TA-603]

In the Matter of Certain DVD Players and Recorders and Certain Products Containing Same; Notice of Investigation

AGENCY: U.S. International Trade Commission.

ACTION: Institution of investigation pursuant to 19 U.S.C. 1337.

SUMMARY: Notice is hereby given that a complaint was filed with the U.S. International Trade Commission on April 6, 2007, under section 337 of the Tariff Act of 1930, as amended, 19 U.S.C. 1337, on behalf of Toshiba Corporation of Japan and Toshiba America Consumer Products, L.L.C., of Wayne, New Jersey. A supplemental letter was filed on April 24, 2007. The complaint, as supplemented, alleges violations of section 337 in the importation into the United States, the sale for importation, and the sale within the United States after importation of certain DVD players and recorders and certain products containing same by reason of infringement of certain claims of U.S. Patent Nos. 5,587,991, 5,870,523, and 5,956,306. The complaint further alleges that an industry in the United States exists as required by subsection (a)(2) of section 337.

The complainants request that the Commission institute an investigation and, after the investigation, issue a permanent exclusion order and permanent cease and desist orders.

ADDRESSES: The complaint and supplement, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://www.usitc.gov/secretary/edis.htm.

FOR FURTHER INFORMATION CONTACT: Karin J. Norton, Esq., Office of Unfair Import Investigations, U.S. International Trade Commission, telephone (202) 205-2606.

Authority: The authority for institution of this investigation is contained in section 337 of the Tariff Act of 1930, as amended, and in section 210.10 of the Commission's Rules of Practice and Procedure, 19 CFR 210.10 (2006).

Scope of Investigation: Having considered the complaint, the U.S. International Trade Commission, on May 1, 2007, ordered that—

(1) Pursuant to subsection (b) of section 337 of the Tariff Act of 1930, as amended, an investigation be instituted to determine whether there is a violation of subsection (a)(1)(B) of section 337 in the importation into the United States, the sale for importation, or the sale within the United States after importation of certain DVD players and recorders and certain products containing same by reason of infringement of one or more of claims 6 and 7 of U.S. Patent No. 5,587,991; claims 16 and 31 of U.S. Patent No. 5,870,523; and claim 4 of U.S. Patent No. 5,956,306; and whether an industry in the United States exists as required by subsection (a)(2) of section 337;

(2) For the purpose of the investigation so instituted, the following are hereby named as parties upon which this notice of investigation shall be served:

(a) The complainants are—

Toshiba Corporation, 1-1 Shibaura 1-Chome, Minato-Ku, Tokyo 105-8001, Japan.

Toshiba America Consumer Products, L.L.C., 82 Totowa Road, Wayne, New Jersey 07470.

(b) The respondents are the following entities alleged to be in violation of section 337, and are the parties upon which the complaint is to be served:

Daewoo Electronics America, Inc., 120 Chubb Avenue, Lyndhurst, New Jersey 07071.

Dongguan GVG Digital Technology Ltd., Da Ping Precinct, Tang Xia Town, Dongguan, Guangdong Province, China 523722.

Dongguan Tonic Electronics Co., Ltd., Shi Tanbu Administrative Zone, Tang Xia Town, Dongguan, Guangdong Province, China 523717.

Dongguan Xin Lian Digital Technology Co. Ltd., Huang Jia Bo Industrial Zone, Shi Pai Town, Dongguan, Guangdong Province, China 523347.

GVG Digital Technology Holdings Ltd., Rm 1822, Grandtech Centre, 8 On Ping St, Siu Lek Yuen, Shatin, New Territories, Hong Kong.

jWIN Electronics Corporation, 2 Harbor Park Drive, Port Washington, New York 11050.

Memcorp Inc., 3200 Meridian Parkway, Weston, Florida 33331.

Star Light Electronics Co. Ltd., 5/F, Shing Dao Industrial Building, 232 Aberdeen Main Road, Wanchai, Hong Kong.

Starlight International Holdings Limited, 5/F, Shing Dao Industrial Building, 232 Aberdeen Main Road, Wanchai, Hong Kong.

Starlight Marketing (HK) Ltd., 5/F, Shing Dao Industrial Building, 232 Aberdeen Main Road, Wanchai, Hong Kong.

Tonic Digital Products Limited, Unit B, 10th Floor, Summit Building, 30 Man Yue Street, Hung Hom, Kowloon, Hong Kong.

Tonic DVB Marketing Ltd., Suite 805, New Tech Plaza Tower A, Tian'An Cyber Park, Futian District, Shenzhen City, Guangdong Province, China 518040.

Tonic Electronics Limited, Unit B, 10th Floor, Summit Building, 30 Man Yue Street, Hung Hom, Kowloon, Hong Kong.

Tonic Industries Holdings Limited, Unit B, 10th Floor, Summit Building, 30 Man Yue Street, Hung Hom, Kowloon, Hong Kong.

Tonic Technology (HK) Limited, Unit B, 10th Floor, Summit Building, 30 Man Yue Street, Hung Hom, Kowloon, Hong Kong.

Tonic Technology (Shenzhen) Ltd., Suite 805, New Tech Plaza Tower A, Tian'An Cyber Park, Futian District, Shenzhen City, Guangdong Province, China 518040.

Tonic Trading Development Ltd., Unit B, 10th Floor, Summit Building, 30 Man Yue Street, Hung Hom, Kowloon, Hong Kong.

(c) The Commission investigative attorney, party to this investigation, is Karin J. Norton, Esq., Office of Unfair Import Investigations, U.S. International Trade Commission, 500 E Street, SW., Room 401-F, Washington, DC 20436; and

(3) For the investigation so instituted, the Honorable Carl C. Charneski is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of a limited exclusion order or cease and desist order or both directed against the respondent.

By order of the Commission.
Issued: May 3, 2007.
Marilyn R. Abbott,
Secretary to the Commission.

[FR Doc. E7-8787 Filed 5-7-07; 8:45 am]

BILLING CODE 7020-02-P